LEGAL SERVICES CORPORATION

Notice of Intent To Award—Grant Awards for the Provision of Civil Legal Services to Eligible Low-Income Clients Beginning January 1, 2007

AGENCY: Legal Services Corporation.

ACTION: Announcement of intention to make FY 2007 Competitive Grant Awards.

SUMMARY: The Legal Services Corporation (LSC) hereby announces its intention to award grants and contracts to provide economical and effective delivery of high quality civil legal services to eligible low-income clients, beginning January 1, 2007.

DATES: All comments and recommendations must be received on or before the close of business on November 13, 2006.

ADDRESSES: Legal Services Corporation—Competitive Grants, Legal Services Corporation; 3333 K Street, NW., Third Floor; Washington, DC 20007.

FOR FURTHER INFORMATION CONTACT: Reginald Haley, Office of Program Performance, at (202) 295-1545, or haleyr@lsc.gov.

SUPPLEMENTARY INFORMATION: Pursuant to LSC's announcement of funding availability on April 17, 2006 (71 FR 19758), and Grant Renewal applications due on June 15, 2006, LSC intends to award funds to the following organizations to provide civil legal services in the indicated service areas. Amounts are subject to change.

Service area | Applicant name | Grant amount
Alabama
AL-4 | Legal Services Alabama, Inc | $5,775,139
MAL | Texas RioGrande Legal Aid, Inc | 29,577
Alaska
AK-1 | Alaska Legal Services Corporation | 668,572
NAK-1 | Alaska Legal Services Corporation | 487,216
American Samoa
AS-1 | Uunai Legal Services Clinic | 288,907
Arizona
AZ-2 | DNA-Peoples Legal Services, Inc | 485,159
AZ-3 | Community Legal Services, Inc | 3,501,869
AZ-5 | Southern Arizona Legal Aid, Inc | 1,688,979
MAZ | Community Legal Services, Inc | 133,465
NAZ-5 | DNA-Peoples Legal Services, Inc | 2,350,835
NAZ-6 | Southern Arizona Legal Aid, Inc | 574,241
Arkansas
AR-6 | Legal Aid of Arkansas, Inc | 1,345,068
AR-7 | Center for Arkansas Legal Services | 2,007,828
MAR | Texas RioGrande Legal Aid, Inc | 71,052
California
CA-1 | California Indian Legal Services, Inc | 30,541
CA-2 | Greater Bakersfield Legal Assistance, Inc | 848,477
CA-12 | Inland Counties Legal Services, Inc | 3,769,963
CA-14 | Legal Aid Society of San Diego, Inc | 2,636,280
CA-19 | Legal Aid Society of Orange County, Inc | 3,682,173
CA-26 | Central California Legal Services | 2,654,548
CA-27 | Legal Services of Northern California, Inc | 3,280,115
CA-28 | Bay Area Legal Aid | 3,866,883
CA-29 | Legal Aid Foundation of Los Angeles | 7,331,409
CA-30 | Neighborhood Legal Services of Los Angeles County | 4,330,597
CA-31 | California Rural Legal Assistance, Inc | 4,327,720
MCA | California Rural Legal Assistance, Inc | 2,373,025
NCA-1 | California Indian Legal Services, Inc | 795,926
Colorado
CO-6 | Colorado Legal Services | 3,100,651
MCO | Colorado Legal Services | 133,506
NCO-1 | Colorado Legal Services | 86,518
Connecticut
CT-1 | Statewide Legal Services of Connecticut, Inc | 2,142,898
NCT-1 | Pine Tree Legal Assistance, Inc | 14,104
Delaware
DE-1 | Legal Services Corporation of Delaware, Inc | 558,913
MDE | Legal Aid Bureau, Inc | 22,318
District of Columbia
DC-1 | Neighborhood Legal Svcs. Program of the Dist. of Col. | 910,499
Florida
FL-5 | Legal Services of Greater Miami, Inc | 3,191,485
FL-13 | Legal Services of North Florida, Inc | 1,310,486
FL-14 | Three Rivers Legal Services, Inc | 1,614,127
FL-14 | Jacksonville Legal Clinic | 1,614,127
FL-15 | Community Legal Services of Mid-Florida, Inc | 2,786,259
FL-16 | Bay Area Legal Services, Inc | 2,364,153
FL-17 | Florida Rural Legal Services, Inc | 2,488,921
FL-18 | Coast to Coast Legal Aid of South Florida, Inc | 1,673,455
MFL | Florida Rural Legal Services, Inc | 807,334
Georgia
GA-1 | Atlanta Legal Aid Society, Inc | 2,327,958
GA-2 | Georgia Legal Services Program | 5,915,647
MGA | Georgia Legal Services Program | 352,442
Guam
GU-1 | Guam Legal Services Corporation | 289,297
Hawaii
HI-1 | Legal Aid Society of Hawaii | 1,188,961
MHI | Legal Aid Society of Hawaii | 61,947
NHI-1 | Native Hawaiian Legal Corporation | 206,365
Idaho
ID-1 | Idaho Legal Aid Services, Inc | 1,068,693
MID | Idaho Legal Aid Services, Inc | 168,022
NID-1 | Idaho Legal Aid Services, Inc | 58,529
Illinois
IL-3 | Land of Lincoln Legal Assistance Foundation, Inc | 2,300,585
IL-6 | Legal Assistance Foundation of Metropolitan Chicago | 5,842,259
IL-7 | Prairie State Legal Services, Inc | 2,484,863
MIL | Legal Assistance Foundation of Metropolitan Chicago | 224,398
Indiana
IN-5 | Indiana Legal Services, Inc | 4,549,932
MIN | Indiana Legal Services, Inc | 102,209
Iowa
IA-3 | Iowa Legal Aid | 2,190,896
MIA | Iowa Legal Aid | 33,917
Kansas
KS-1 | Kansas Legal Services, Inc | 2,133,178
MKS | Kansas Legal Services, Inc | 10,685
Kentucky
KY-2 | Legal Aid Society | 1,081,710
KY-5 | Appalachian Research and Defense Fund of Kentucky | 1,872,033
KY-9 | Kentucky Legal Aid | 1,121,888
KY-10 | Legal Aid of the Bluegrass | 1,162,706
MKY | Texas RioGrande Legal Aid, Inc | 38,258
Louisiana
LA-1 | Capital Area Legal Services Corporation | 1,302,763
LA-10 | Acadiana Legal Service Corporation | 1,859,650
LA-11 | Legal Services of North Louisiana, Inc | 1,748,235
LA-12 | Southeast Louisiana Legal Services Corporation | 2,339,736
MLA | Texas RioGrande Legal Aid, Inc | 24,754
Maine
ME-1 | Pine Tree Legal Assistance, Inc | 1,062,174
MMX-1 | Pine Tree Legal Assistance, Inc | 112,270
NME-1 | Pine Tree Legal Assistance, Inc | 58,066
Maryland
MD-1 | Legal Aid Bureau, Inc | 3,565,887
MMD | Legal Aid Bureau, Inc | 81,729
Massachusetts
MA-4 | Merrimack Valley Legal Services, Inc | 746,060
MA-10 | Massachusetts Justice Project, Inc | 1,356,011
MA-11 | Volunteer Lawyers Project of the Boston Bar Assoc. | 1,830,501
MA-12 | New Center for Legal Advocacy, Inc | 820,496
Michigan
MI-9 | Legal Services of Northern Michigan, Inc | 663,415
MI-12 | Legal Services of South Central Michigan | 1,183,057
MI-13 | Legal Aid and Defender Association, Inc | 3,567,261
MI-14 | Legal Services of Eastern Michigan | 1,293,370
MI-15 | Legal Aid of Western Michigan | 1,525,030
MMI | Legal Services of South Central Michigan | 541,102
NMI-1 | Michigan Indian Legal Services, Inc | 148,301
Micronesia
MP-1 | Micronesian Legal Services, Inc | 1,482,716
Minnesota
MN-1 | Legal Aid Service of Northeastern Minnesota | 392,667
MN-4 | Legal Services of Northwest Minnesota Corporation | 358,333
MN-5 | Southern Minnesota Regional Legal Services, Inc | 1,117,284
MN-6 | Central Minnesota Legal Services, Inc | 1,208,235
MMN | Southern Minnesota Regional Legal Services, Inc | 179,855
NMN-1 | Anishinabe Legal Services, Inc | 215,295
Mississippi
MS-9 | North Mississippi Rural Legal Services, Inc | 1,866,236
MS-10 | Mississippi Center for Legal Services | 2,778,640
MMS | Texas RioGrande Legal Aid, Inc | 51,304
NMS-1 | Mississippi Center for Legal Services | 74,888
Missouri
MO-3 | Legal Aid of Western Missouri | 1,596,316
MO-4 | Legal Services of Eastern Missouri, Inc | 1,762,401
MO-5 | Mid-Missouri Legal Services Corporation | 351,328
MO-7 | Legal Services of Southern Missouri | 1,520,824
MMO | Legal Aid of Western Missouri | 73,231
Montana
MT-1 | Montana Legal Services Association | 1,018,212
MMT | Montana Legal Services Association | 49,067
NMT-1 | Montana Legal Services Association | 143,446
Nebraska
NE-4 | Legal Aid of Nebraska | 1,302,953
MNE | Legal Aid of Nebraska | 38,008
NNE-1 | Legal Aid of Nebraska | 29,779
Nevada
NV-1 | Nevada Legal Services, Inc | 1,708,021
MNV | Nevada Legal Services, Inc | 2,262
NNV-1 | Nevada Legal Services, Inc | 119,795
New Hampshire
NH-1 | Legal Advice & Referral Center, Inc | 644,043
New Jersey
NJ-8 | Essex-Newark Legal Services Project, Inc | 977,244
NJ-12 | Ocean-Monmouth Legal Services, Inc | 598,559
NJ-15 | Legal Services of Northwest Jersey | 353,140
NJ-16 | South Jersey Legal Services, Inc | 1,202,191
NJ-17 | Central Jersey Legal Services, Inc | 981,276
NJ-18 | Northeast New Jersey Legal Services Corporation | 1,596,898
MNJ | South Jersey Legal Services, Inc | 108,470
New Mexico
NM-1 | DNA-Peoples Legal Services, Inc | 195,129
NM-5 | New Mexico Legal Aid | 2,461,456
MNM | New Mexico Legal Aid | 78,511
NNM-2 | DNA-Peoples Legal Services, Inc | 20,467
NNM-4 | New Mexico Legal Aid | 418,589
New York
NY-7 | Nassau/Suffolk Law Services Committee, Inc | 1,250,385
NY-9 | Legal Services for New York City | 13,725,978
NY-20 | Legal Services of the Hudson Valley | 1,608,390
NY-21 | Legal Aid Society of Northeastern New York, Inc | 1,208,003
NY-22 | Legal Aid Society of Mid-New York, Inc | 1,583,403
NY-23 | Legal Assistance of Western New York, Inc | 1,552,171
NY-24 | Neighborhood Legal Services, Inc | 1,208,652
MNY | Legal Aid Society of Mid-New York, Inc | 248,828
North Carolina
NC-5 | Legal Aid of North Carolina, Inc | 7,489,578
MNC | Legal Aid of North Carolina, Inc | 481,791
NNC-1 | Legal Aid of North Carolina, Inc | 196,616
North Dakota
ND-3 | Legal Services of North Dakota | 506,603
MND | Southern Minnesota Regional Legal Services, Inc | 104,196
NND-3 | Legal Services of North Dakota | 242,675
Ohio
OH-5 | The Legal Aid Society of Columbus | 1,155,179
OH-17 | Ohio State Legal Services | 1,600,940
OH-18 | Legal Aid Society of Greater Cincinnati | 1,328,982
OH-20 | Community Legal Aid Services, Inc | 1,557,028
OH-21 | The Legal Aid Society of Cleveland | 1,944,834
OH-23 | Legal Aid of Western Ohio, Inc | 2,300,796
MOH | Legal Aid of Western Ohio, Inc | 113,234
Oklahoma
OK-3 | Legal Aid Services of Oklahoma, Inc | 4,028,395
MOK | Legal Aid Services of Oklahoma, Inc | 56,251
NOK-1 | Oklahoma Indian Legal Services, Inc | 737,639
Oregon
OR-6 | Legal Aid Services of Oregon | 2,731,662
MOR | Legal Aid Services of Oregon | 500,733
NOR-1 | Legal Aid Services of Oregon | 166,305
Pennsylvania
PA-1 | Philadelphia Legal Assistance Center | 2,758,960
PA-5 | Laurel Legal Services, Inc | 685,443
PA-8 | Neighborhood Legal Services Association | 1,494,099
PA-11 | Southwestern Pennsylvania Legal Services, Inc | 497,989
PA-23 | Legal Aid of Southeastern Pennsylvania | 1,013,073
PA-24 | North Penn Legal Services, Inc | 1,616,081
PA-25 | MidPenn Legal Services, Inc | 1,977,087
PA-26 | Northwestern Legal Services | 652,083
MPA | Philadelphia Legal Assistance Center | 148,989
Puerto Rico
PR-1 | Puerto Rico Legal Services, Inc | 14,961,511
PR-2 | Community Law Office, Inc | 310,731
MPR | Puerto Rico Legal Services, Inc | 261,359
Rhode Island
RI-1 | Rhode Island Legal Services, Inc | 1,000,775
South Carolina
SC-8 | The South Carolina Centers for Equal Justice | 4,377,752
MSC | The South Carolina Centers for Equal Justice | 177,809
MSC | Georgia Legal Services Program | 177,809
South Dakota
SD-2 | East River Legal Services | 363,301
SD-4 | Dakota Plains Legal Services, Inc | 430,545
MSD | Dakota Plains Legal Services, Inc | 3,567
NSD-1 | Dakota Plains Legal Services, Inc | 841,163
Tennessee
TN-4 | Memphis Area Legal Services, Inc | 1,277,916
TN-7 | West Tennessee Legal Services, Inc | 596,189
TN-9 | Legal Aid of East Tennessee | 1,952,051
TN-10 | Legal Aid Society of Middle TN and the Cumberlands | 2,326,420
MTN | Texas RioGrande Legal Aid, Inc | 57,016
Texas
TX-13 | Lone Star Legal Aid | 8,621,648
TX-14 | Legal Aid of NorthWest Texas | 6,802,314
TX-15 | Texas RioGrande Legal Aid, Inc | 9,250,474
MTX | Texas RioGrande Legal Aid, Inc | 1,248,655
NTX-1 | Texas RioGrande Legal Aid, Inc | 28,195
Utah
UT-1 | Utah Legal Services, Inc | 1,654,654
MUT | Utah Legal Services, Inc | 60,974
NUT-1 | Utah Legal Services, Inc | 74,116
Vermont
VT-1 | Legal Services Law Line of Vermont, Inc | 454,251
Virgin Islands
VI-1 | Legal Services of the Virgin Islands, Inc | 290,453
Virginia
VA-15 | Southwest Virginia Legal Aid Society, Inc | 737,629
VA-16 | Legal Aid Society of Eastern Virginia | 1,274,282
VA-17 | Virginia Legal Aid Society, Inc | 767,854
VA-18 | Central Virginia Legal Aid Society, Inc | 905,219
VA-19 | Blue Ridge Legal Services, Inc | 638,688
VA-20 | Potomac Legal Aid Society, Inc | 994,555
MVA | Central Virginia Legal Aid Society, Inc | 141,780
Washington
WA-1 | Northwest Justice Project | 4,435,741
MWA | Northwest Justice Project | 656,149
NWA-1 | Northwest Justice Project | 256,635
West Virginia
WV-5 | Legal Aid of West Virginia, Inc | 2,592,984
MWV | Legal Aid of West Virginia, Inc | 32,861
Wisconsin
WI-2 | Wisconsin Judicare, Inc | 831,166
WI-5 | Legal Action of Wisconsin, Inc | 2,940,559
MWI | Legal Action of Wisconsin, Inc | 81,845
NWI-1 | Wisconsin Judicare, Inc | 139,748
Wyoming
WY-4 | Wyoming Legal Services, Inc | 444,290
WY-4 | Legal Aid of Wyoming | 444,290
MWY | Wyoming Legal Services, Inc | 11,184
MWY | Legal Aid of Wyoming | 11,184
NWY-1 | Wyoming Legal Services, Inc | 155,677
NWY-1 | Legal Aid of Wyoming | 155,677

These grants and contracts will be awarded under the authority conferred on LSC by the Legal Services Corporation Act, as amended (42 U.S.C. 2996e(a)(1)). Awards will be made so that each service area is served, although none of the listed organizations are guaranteed an award or contract. This public notice is issued pursuant to the LSC Act (42 U.S.C. 2996f(f)), with a request for comments and recommendations concerning the potential grantees within a period of thirty (30) days from the date of publication of this notice. Grants will become effective and grant funds will be distributed on or about January 1, 2007.

Dated: October 5, 2006.
Michael A. Genz,
Director, Office of Program Performance, Legal Services Corporation.

[FR Doc. 06-8654 Filed 10-12-06; 8:45 am]

BILLING CODE 7050-01-P